DEPARTMENT OF JUSTICE

Notice of Lodging of Modification To Consent Decree Under the Comprehensive Environmental Response, Compensation, and Liability Act

Notice is hereby given that on June 1, 2012, a proposed Amendment to the Consent Decree in U.S. v. Allied Signal Inc., et al., 96 Civ. 1513 (RPP) was lodged with the United States District Court for the Southern District of New York.

The Original Consent Decree that was entered in 1996 involves the Cortese Landfill Superfund Site, located in the Town of Tusten, Sullivan County, New York. The Amendment to the Consent Decree modifies the Original Consent Decree to require implementation of a modified remedy that the United States Environmental Protection Agency has selected for the Site.

In the course of the performance of the original remedy, two additional sources of contamination were discovered beneath a former drum disposal areas at the Site, which required the selection of an additional response action to address this newly identified source-area contamination. Accordingly, EPA modified the original remedy to provide for air sparging/soil vapor extraction and amendment addition (i.e., injection of soil amendment into the subsurface), subsequent application of in-situ chemical oxidation, if necessary, to address the sources of contamination beneath the former drum disposal areas, and monitored natural attenuation to address the groundwater downgradient from the landfill perimeter.

The Department of Justice will receive for a period of 30 days from the date of this publication comments relating to the Amendment to the Consent Decree. Comments should be addressed to the Assistant Attorney General, Environment and Natural Resources Division, and either emailed to pubcomment-ees.enrd@usdoj.gov or mailed to P.O. Box 7611, U.S. Department of Justice, Washington, DC 20044-7611, and should refer to U.S. v. Allied Signal Inc., et al., D.J. Ref. 90-11-2-1078/1.

During the public comment period, the Amendment to the Consent Decree may also be examined on the following Department of Justice Web site: http://www.usdoj.gov/enrd/Consent_Decrees.html. A copy of the Amendment to the Consent Decree may also be obtained by mail from the Consent Decree Library, P.O. Box 7611, U.S. Department of Justice, Washington, DC 20044-7611 or by faxing or emailing a request to “Consent Decree Copy” (EESCDCopy.ENRD@usdoj.gov), fax no. (202) 514-0097, phone confirmation number (202) 514-5271. If requesting a copy from the Consent Decree Library by mail, please enclose a check in the amount of $17.25 (25 cents per page reproduction cost) payable to the U.S. Treasury or, if requesting by email or fax, forward a check in that amount to the Consent Decree Library at the address given above.

Ronald G. Gluck,
Assistant Chief, Environmental Enforcement Section, Environment and Natural Resources Division.

[FR Doc. 2012-13966 Filed 6-7-12; 8:45 am]

BILLING CODE 4410-15-M